DEPARTMENT OF LABOR

Mine Safety and Health Administration

Petitions for Modification of Application of Existing Mandatory Safety Standard

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before May 23, 2018.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2018-012-C.

Petitioner: Hamilton County Coal, LLC, 18033 County Road, 500E, Dahlgren, Illinois 62828-4294.

Mine: Mine No. 1, MSHA I.D. No. 11-03203, located in Hamilton County, Illinois.

Regulation Affected: 30 CFR 75.1506 (Refuge alternatives).

Modification Request: The petitioner requests a modification of the existing standard to permit through alternative safety measures, use of the Dräger PAS Lite® Self-Contained Breathing Apparatus (SCBA) and ChargeAir Filling Stations in conjunction with a centrally located built-in-place (BIP) Refuge Alternative (RA) at Mine No. 1.

The petitioner states that:

(1) The proposed alternative safety measures place the primary focus on facilitating escape and emphasize survivable refuge as a last resort. The utilization of SCBS along with ChargeAir Filling Stations provides the best opportunity for mine evacuation due to the SCBS making verbal communication possible and eliminating potential hazards that exist within transfer between Self-Contained Self Rescuers (SCSRs).

(2) If mine escape is not possible, the utilization of a centrally located BIP RA as last resort provides the best opportunity for survival due to its inherent advantages. Utilizing a borehole to the surface to supply continuous fresh air to trapped miners, the BIP RA is able to maintain a superior environment, as compared to portable RAs. The result is an improved psychological and physiological environment that can be advantageous to the health and safety of miners in the stress of an emergency. The location and construction of the BIP RA has a higher likelihood of avoiding damage from both primary and secondary explosions that often occur at the face area. The communication system to the BIP RA has a higher likelihood of surviving a disaster because it is protected inside the borehole to the surface and behind the structure walls.

(3) Mine No. 1 extracts coal from the Herrin No. 6 coal seam by both continuous mining and longwall extraction methods. The average mining height at Mine No. 1 is approximately 8.5 feet. Mine No. 1 utilizes both SCSRs and SCBAs which are approved by MSHA and/or NIOSH. These devices include the Ocenco M-20 SCSR, Ocenco EBA 6.5 SCSR, CSE Self Rescuer Long Duration (SLRD) SCSR, and the Dräger PAS Lite® SCBA. The breathable air units are provided in the underground mine workings as follows:

—A cache of Ocenco EBA 6.5 SCSRs located at the section power centers;

—A cache of 24 Dräger PAS Lite® SCBAs located outby the section loading in the primary escapeway;

—An additional 14 Dräger PAS Lite® SCBAs located on the section safety ride;

—A cache of (2) Ocenco EBA 6.5 SCSRs located at intervals not to exceed 2,000 feet along both the primary escapeway and the alternative escapeway;

—At intervals not to exceed 5,700 feet along the primary escapeway, the mine has in place refill station(s) for the Dräger PAS Lite® SCBAs and an additional five (5) one-hour SCSRs and/or SCBAs;

—At intervals not to exceed 5,700 feet along the alternate escapeway, the mine has in place caches of Ocenco EBA 6.5 SCSRs;

—Both the SCBA refill(s) and the caches are accessible by a man door located in the stopping line separating the primary and alternate escapeway; and

—All mantrips and vehicles on which persons travel throughout the mine are provided with SCBAs equal to the occupant capacity of the equipment. All employees and visitors are trained in the donning and transfer of these units.

The petitioners request for modification of the application of 30 CFR 75.1506 will be conditioned upon compliance with the following:

—The mine will construct a BIP RA in a crosscut located within one hour of walking distance from the shaft and slope bottoms.

—The BIP RA will be constructed with two (2) approved 15-pounds per square inch (psi) minimum stoppings adjacent to the escapeway entries.

The BIP RA will provide a minimum of 60 cubic feet of volume per person and a minimum of 15 square feet of floor space per person.

—Access to the BIP RA will be gained through a door which is approved in conjunction with a 15-psi stopping.

—An air-sampling pipe will be installed in the 15-psi minimum stopping. The air-sampling pipe will be of 1 inch diameter and will be equipped with a threaded cap located inside the BIP RA.

—A Pressure Relief Pipe will be installed in the 15-psi minimum stopping. This pipe will be of six inch diameter and will be equipped with a one-way check valve.

—Air monitoring equipment will be placed inside the airlock area of the BIP RA.

—Ten (10) SCBAs and ten (10) Ocenco EBA 6.5 SCSRs will be stored within the airlock area of the BIP RA.

—An airlock wall will be constructed within the BIP RA. This airlock wall will be constructed as a dry-stacked and plastered stopping.

—A pressure by-pass pipe will be installed within the airlock wall. This pipe will be six inches in diameter.

—Access through the airlock will be gained by use of a man door.

—A cased eight inch diameter borehole will be utilized to provide breathable air from the blower located on the surface.

—A 2-wire page phone cable will be installed in the borehole and shunted on both ends.

—A storage box will be provided within the BIP RA and will contain at a minimum a page phone and spare battery, fire extinguisher, lightsticks, portable toilet, sanitation bags, toilet paper, first aid kit, pipe wrench, etc.

—A minimum of the 2,000 calories of food and 2.25 quarts of portable water per person per day in approved containers sufficient to sustain the maximum number of persons reasonably expected to use the BIP RA for at least 96 hours.

—At a minimum, breathable air units will continue to be maintained as provided above in this petition.

—Miners will continue to travel into irrespirable atmospheres to gain access to the BIP RA by use of the Dräger PAS Lite® SCBAs as follows:

a. The ChargeAir Filling Station is an automatic cascading refill system that is stored at approved locations in underground mines. It contains numerous banks of cylinders that are used to store breathing air at a pressure of 6,000 psi. The plumbing of these banks allows for automatic cascading when the users are refilling their SCBA's.

b. The ChargeAir Filling Station utilizes specialized valves that allow for the cascading process to be done automatically with no need for the user to open and close storage cylinder valves. Typically cascading is done with a user manually opening and closing valves at a control panel. The sequence in which the banks are opened is very important. If the wrong bank of cylinders is opened, the number of SCBA's that can be refilled will be fewer than anticipated. Draeger has made the ChargeAir Filling Station an automatic cascade system to help eliminate errors by removing the human factor in this process.

c. Once the user has donned their SCBA they proceed to exit the mine. The ChargeAir Filling Station is pressurized at all times while underground making it ready for use at any moment. When the SCBA user arrives at the ChargeAir Filling Station, they access the control panel and open the main pressure valve. Once the valve is opened, high pressure air is sent to all of the refill lines. The user grasps an individual refill line and connects it to their SCBA. The SCBA is instantly recharged.

d. The user then disconnects from the ChargeAir Filling Station and proceeds to the next ChargeAir Filling Station, replenishing their 60-minute SCBA air supply. This refilling of the users SCBA is repeated along the escapeways until the SCBA user exits the mine.

e. In an emergency situation when visibility is minimal and the atmosphere is toxic, changing out escape equipment becomes increasingly difficult. With the Dräger PAS Lite® SCBA refill system, the units are not exchanged during an escape, but rather recharged while donned and miners are breathing clean air.

f. An SCBA utilizes a positive pressure system, which means that breathing air flows into the face piece upon each inhalation. In addition, the air is cool due to the expansion from compression.

g. Wearing a full face mask makes verbal communication possible, which is very important in an emergency.

h. The system removes the potential hazards that exist within transfer between SCSRs and the potential hazards created by use of a negative pressure system.

—All underground mine personnel will be trained in the provisions of this petition before the petition is implemented. A record of this training will be documented and made available for inspection by authorized representatives of the Secretary and representatives of the Illinois Department of Natural Resources.

The petitioner asserts that the proposed alternative method will at all times guarantee no less than the same measure of protection afforded by the existing standard.

Docket Number: M-2018-013-C.

Petitioner: The Coteau Properties Company, 204 County Road, Beulah, North Dakota 58523-9475.

Mine: Freedom Mine, MSHA I.D. No. 32-00595, located in Mercer County, North Dakota.

Regulation Affected: 30 CFR 77.1607(u) (Loading and haulage equipment; operation).

Modification Request: The petitioner requests a modification of the existing standard to permit the use of large tow ropes and/or a Lambordini Model 9LD 625-2 engine driven hydraulic power pack to tow disabled haulage trucks in lieu of a solid tow bar and safety chain.

The petitioner states that:

(1) The proposed towing system will only apply to vehicles with a “fail safe” braking system and emergency steering capabilities.

(2) The tow ropes used to tow a disabled vehicle will be a minimum of 3⅝ inch Dyneema material, at least 50 feet in length, with an average breaking strength of 1,459,000 pounds and maintained in good condition. Tow ropes will be attached to both vehicles with tow balls or equivalent attachments. Connecting the towing ropes between vehicles must be done when the vehicles are at a protected location and the engines are not running.

(3) Radio communications between the towed and the towing vehicles must be maintained at all time when the vehicles are moving. The towed vehicle driver must be able to see at least 10 feet in front of the vehicle. Towing speed will not exceed 5 miles per hour.

(4) The engine driven hydraulic “power pack” will be adequately designed to supply the correct hydraulic pressure recommended by the towed vehicle manufacturer. The power pack will be securely mounted to the towed vehicle as to not impede the operation of the vehicle or pose safety hazards such as a broken hydraulic line or exhaust fumes that may enter the operator's compartment. The power pack will not impede the ability to exit the vehicle quickly.

(5) The power pack will operate at all times when the vehicle is being towed to maintain normal braking and steering functions. The power pack must be examined prior to each use by a qualified mechanic trained to perform the examination.

(6) Prior to towing operation, testing of the brakes and steering will be performed at a protected location. The test must include fully pressurizing the air system to assure the brakes function properly and depleting the air system to assure the “fail safe” brakes reapply at the proper pressures.

(7) All qualified mechanics will be trained to perform the installation of the power pack and to recognize conditions that would prohibit use of the power pack to tow a vehicle.

The petitioner asserts that the proposed alternative method will at all times guarantee no less than the same measure of protection afforded by the existing standard.

Docket Number: M-2018-004-M.

Petitioner: Hutchinson Salt Company, Three Gateway Center, 401 Liberty Avenue, Suite 1500, Pittsburgh, Pennsylvania 15222.

Mine: Hutchinson Salt Company Mine, MSHA I.D. No. 14-0412, located in Reno County, Kansas.

Regulation Affected: 30 CFR 57.12084 (Branch circuit disconnecting devices).

Modification Request: The petitioner requests a modification of the existing standard to permit an alternative method of compliance of the standard with respect to branch circuit disconnecting devices.

The petitioner states that:

(1) The Hutchinson Salt Mine maintains an electrical system throughout the mine. That system includes the use of underground transformer stations where the voltage coming into the mine is stepped down for use of the electrical equipment in the mine.

(2) Petitioner proposes to use an LBU II Loadbreaker fuse cutouts as disconnects at each underground transformer station on the incoming sides of the transformers.

(3) There are approximately 20 transformers throughout the underground portion of the mine. These areas are accessed as needed for maintenance purposes. This condition exposes persons to fatal electrical hazards.

(4) The petitioner currently has a means to disconnect the 480-volt power at the output side of the step down transformers in the mine. The petitioner is filing this petition for modification with respect to the power coming to each transformer station.

(5) The petitioner proposes the following alternative method to be utilized.

(a) Petitioner will install LBU II Loadbreaker fuse cutouts at each transformer station underground (branch power station) where feasible as a means of disconnecting the 2,300-volt power supply.

(b) Such cutouts will be installed at least 9 feet above the mine floor in the open air. It will be possible to operate such switches from the mine floor.

(c) A properly rated hot stick will be utilized to break the fuse under load if necessary.

(d) The miner using such hot stick will utilize appropriate Personal Protective Equipment.

(e) If it becomes necessary to lock and tag out the Loadbreaker cutouts, appropriate procedures will be utilized, including, either disabling the hot stick with a lockout device covering the hook or removing the fuse cutouts from their holders and locking them in a box.

(f) Within 60 days after the Proposed Decision and Order becomes final, the petitioner will submit proposed revisions for its approved 30 CFR part 48 training plan to the District Manager for the area in which the mine is located. These proposed revisions will specify task training for miners designated to perform electrical work under the requirements of this petition.

The petitioner asserts that the proposed alternative method will at all times guarantee no less than the same measure of protection afforded by the existing standard.

Sheila McConnell,
Director, Office of Standards, Regulations, and Variances.

[FR Doc. 2018-08409 Filed 4-20-18; 8:45 am]

BILLING CODE 4520-43-P